DEPARTMENT OF COMMERCE

National Oceanic and Atmospheric Administration

[I.D. 100404E]

South Atlantic Fishery Management Council; Public Meetings

AGENCY: National Marine Fisheries Service (NMFS), National Oceanic and Atmospheric Administration (NOAA), Commerce.

ACTION: Notice of a joint public meeting.

SUMMARY: The South Atlantic Fishery Management Council (Council) will hold a joint meeting of its Habitat Advisory Panel (AP) and Coral AP to further the Council's integrated process to update Essential Fish Habitat (EFH) information and consider ecosytem-based management through the development of a Fishery Ecosystem Plan for the South Atlantic Region.

DATES: The joint meeting will take place October 25-29, 2004. On October 25, 2004, sessions will begin at 1 p.m. and conclude at 5 p.m. Sessions will be held from 8:30 a.m. until 5 p.m. on October 26-28, 2004, and from 8:30 a.m. until 1 p.m. on October 29, 2004.

ADDRESSES: The meeting will be held at the Francis Marion Hotel, 387 King Street, Charleston, SC, 29401; telephone: (877) 756-2121 or (843) 722-0600.

FOR FURTHER INFORMATION CONTACT: Kim Iverson, Public Information Officer, South Atlantic Fishery Management Council, One Southpark Circle, Suite 306, Charleston, SC 29407; telephone: (843) 571-4366 or (866) SAFMC-10; fax: (843) 769-4520.

SUPPLEMENTARY INFORMATION: Items for discussion at the joint meeting include: (1) review and approval of the Draft Research and Monitoring Plan for the Oculina Closed Area; (2) discussion of preliminary Draft Research and Monitoring Plan for Deepwater Coral Ecosystems in the South Atlantic; (3) discussion of potential deepwater coral sites for Coral-Habitat Areas of Particular Concern C-HAPC designation; (4) review and update of policies protecting EFH from the impacts of non-fishing activities in the South Atlantic region, and (5) discussion of Council's Action Plan to adopt an ecosystem-based approach to management including timeframe of development for the Council's Fishery Ecosystem Plan.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) by October 22, 2004.

Dated: October 5, 2004.
Alan D. Risenhoover,
Acting Director, Office of Sustainable Fisheries, National Marine Fisheries Service.

[FR Doc. E4-2561 Filed 10-7-04; 8:45 am]

BILLING CODE 3510-22-S